DEPARTMENT OF ENERGY

Federal Energy Regulatory Commission

[Docket No. RP01-462-000]

Egan Hub Partners, L.P. Notice of Proposed Changes in FERC Gas Tariff

July 5, 2001.

Take notice that on June 27, 2001, Egan Hub Partners, L.P. (Egan Hub) tendered for filing as part of its FERC Gas Tariff, Original Volume No. 1, the tariff sheets listed on the attached Appendix A to the filing, to be effective on August 1, 2001.

Egan Hub states that the purpose of this filing is to make certain housekeeping changes necessary to reflect the acquisition of Egan Hub by Duke Energy Gas Transmission. Egan Hub states that updated address and contact information for Egan Hub representatives, updated addresses for the Egan Hub Internet Web site, and an updated telephone number for obtaining information on access to the Internet Web site is being incorporated into the appropriate sections of the tariff. Egan Hub also states that the contents of Sheet No. 127 (GT&C Section 24, Gas Industry Standards) are being deleted because the complete and updated text of this section is contained on Sheet No. 94 within the General Terms and Conditions.

Egan Hub states that copies of its filing have been mailed to all affected customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17325 Filed 7-10-01; 8:45 am]

BILLING CODE 6717-01-P